DEPARTMENT OF HEALTH AND HUMAN SERVICES

National Institutes of Health

National Institute of Neurological Disorders & Stroke (NINDS); Notice of Organizational Change

AGENCY: National Institutes of Health, HHS.

ACTION: Notice.

SUMMARY: The National Institute of Neurological Disorders and Stroke (NINDS) will launch a public information website and host a webinar to enable public discussion regarding NINDS proposal to reorganize the Office of Communications and Public Liaison and Office of Scientific Liaison.

DATES: NINDS will launch public website information at https://www.ninds.nih.gov/About-NINDS/Public-Hearing-NINDS-Office-Neuroscience-Communications-and-Engagement-Proposal on October 01, 2019. A public webinar will be held on October 17, 2019 at 1:00 p.m. EST. A recording of the webinar will be posted no later than October 18, 2019 at 3:00 p.m. EST. Any interested person may file written comments by sending an email to NINDSReorgComments@nih.gov by October 31, 2019. The statement should include the individual's name, and when applicable, professional affiliation. NINDS will respond to comments by email no later than November 07, 2019.

ADDRESSES: The following email address has been established for questions and/or comments on the reorganization: NINDSReorgComments@nih.gov.

FOR FURTHER INFORMATION CONTACT: Mary Coats, Management Analyst, National Institute of Neurological Disorders & Stroke (NINDS), NINDSReorgComments@nih.gov, 301-594-4489.

SUPPLEMENTARY INFORMATION: Pursuant to the NIH Reform Act of 2006 (42 U.S.C. Sec. 281 (d)(4)), NINDS will launch a public information website at https://www.ninds.nih.gov/About-NINDS/Public-Hearing-NINDS-Office-Neuroscience-Communications-and-Engagement-Proposal and host a webinar to enable public discussion regarding NINDS proposal to reorganize the Office of Communications and Public Liaison and Office of Scientific Liaison. Details of the reorganization and information regarding the webinar is available on the Institute's website at https://www.ninds.nih.gov/About-NINDS/Public-Hearing-NINDS-Office-Neuroscience-Communications-and-Engagement-Proposal.

This reorganization will support efforts to Optimize NIH as it will foster greater collaboration and sharing of resources across NINDS.

Dated: September 19, 2019.
Walter J. Koroshetz,
Director, National Institute of Neurological Disorders and Stroke, National Institutes of Health.

[FR Doc. 2019-21189 Filed 9-27-19; 8:45 am]

BILLING CODE 4140-01-P